DEPARTMENT OF ENERGY

Federal Energy Regulatory Commission

[Docket No. AD08-13-000]

Transmission Barriers to Entry; Notice of Technical Conference

September 24, 2008.

Take notice that the Federal Energy Regulatory Commission will hold a technical conference on October 14, 2008, from 1 p.m. to 5 p.m. (Eastern Time) in the Commission Meeting Room at the Federal Energy Regulatory Commission, 888 First Street, NE., Washington, DC 20426. The conference will be open for the public to attend and advance registration is not required. Members of the Commission may attend the conference.

The purpose of this conference is to explore barriers to transmission development. The agenda for this conference will be published at a later time.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact: Katie Detweiler, 202-502-6424, katie.detweiler@ferc.gov or Sarah McKinley, 202-502-8368, sarah.mckinley@ferc.gov.

Kimberly D. Bose,
Secretary.

[FR Doc. E8-23064 Filed 9-30-08; 8:45 am]

BILLING CODE 6717-01-P